NATIONAL SCIENCE FOUNDATION

Agency Information Collection Activities: Comment Request; National Science Foundation-Managed Honorary Awards

AGENCY: National Science Foundation.

ACTION: Notice.

SUMMARY: The National Science Foundation (NSF) is announcing plans to renew, with a revision, this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by November 27, 2023 to be assured consideration. Comments received after that date will be considered to the extent practicable. Send comments to the address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: National Science Foundation-Managed Honorary Awards.

OMB Approval Number: 3145-0035.

Expiration Date of Approval: January 31, 2024.

Type of Request: Intent to seek approval to revise an information collection for three years.

Abstract: The National Science Foundation (NSF) administers several external awards, among them the President's National Medal of Science, the Alan T. Waterman Award, the National Science Board (NSB) Vannevar Bush Award, the NSB Public Service Award, the Presidential Awards for Excellence in Science, Mathematics and Engineering Mentoring (PAESMEM) program, and the Presidential Awards for Excellence in Mathematics and Science Teaching (PAEMST) program. The full descriptions for these programs, including nominating requirements, may be found at the following website: https://www.nsf.gov/awards/presidential.jsp.

Use of the Information: Following are brief outlines of the honorary award programs:

• President's National Medal of Science. Statutory authority for the President's National Medal of Science is contained in 42 U.S.C. 1881 (Pub. L. 86-209), which established the award and stated that “(t)he President shall . . . award the Medal on the recommendations received from the National Academy of Sciences or on the basis of such other information and evidence as . . . appropriate.”

• Alan T. Waterman Award. Congress established the Alan T. Waterman Award in August 1975 (42 U.S.C. 1881a (Pub. L. 94-86) and authorized NSF to “establish the Alan T. Waterman Award for research or advanced study in any of the sciences or engineering” to mark the 25th anniversary of the National Science Foundation and to honor its first Director. The annual award recognizes an outstanding young researcher in any field of science or engineering supported by NSF. In addition to a medal, the awardee receives a grant of $1,000,000 over a five-year period for scientific research or advanced study in in any field of science or engineering.

• Vannevar Bush Award. The Vannevar Bush Award honors truly exceptional lifelong leaders in science and technology who have made substantial contributions to the welfare of the Nation through public service activities in science, technology, and public policy. The National Science Board established this award in 1980 in the memory of Vannevar Bush, who served as a science advisor to President Franklin Roosevelt during World War II, helped to establish Federal funding for science and engineering as a national priority during peacetime, and was behind the creation of the National Science Foundation.

• NSB Public Service Award. The National Science Board established the Public Service Award in November 1996 to honor individuals and groups that have made substantial contributions to increasing public understanding of science and engineering in the United States. These contributions may be in a wide variety of areas that have the potential of contributing to public understanding of and appreciation for science and engineering—including mass media, education and/or training programs, and entertainment.

• Presidential Awards for Excellence in Science, Mathematics and Engineering Mentoring (PAESMEM) program. In 1996, the White House, through the National Science and Technology Council (NSTC) and the Office of Science and Technology Policy (OSTP), established the Presidential Awards for Excellence in Science, Mathematics and Engineering Mentoring (PAESMEM) program. The program, administered on behalf of the White House by the National Science Foundation, seeks to identify outstanding mentoring efforts or programs designed to enhance the participation of groups (women, minorities and persons with disabilities as well as groups from low socioeconomic regions) underrepresented in science, mathematics and engineering. The awardees will serve as exemplars to their colleagues and will be leaders in the national effort to more fully develop the Nation's human resources in science, mathematics and engineering. This award is managed at NSF by the Directorate for Education and Human Resources (EHR).

• Presidential Award for Excellence in Mathematics and Science Teaching. The Presidential Award for Excellence in Mathematics and Science Teaching (PAEMST) is the highest recognition that a kindergarten through 12th-grade mathematics or science teacher may receive for outstanding teaching in the United States. Enacted by Congress in 1983, this program authorizes the President to bestow 108 awards with two per state or jurisdiction, assuming there are qualified applicants. Awards are given in the science category, which includes science and engineering, and the mathematics category, which includes mathematics, technology and computer science. In even-numbered years, nominations are accepted for elementary teachers (grades K-6); in odd-numbered years, secondary teachers (grades 7-12) are nominated. This award is managed at NSF by the Directorate for Education and Human Resources (EHR).

Estimate of Burden: These are annual award programs with application deadlines varying according to the program. Public burden also may vary according to program; however, across all the programs, it is estimated that each submission will average 23 hours per respondent. If the nominator is thoroughly familiar with the disciplinary background of the nominee, time spent to complete the nomination may be considerably reduced. Once provisionally selected, on behalf of OSTP, NSF may collect information from the potential Presidential award honorees necessary for OSTP to complete a background check. The estimated time for completion is ten minutes per respondent, including reviewing the instructions.

Respondents: Individuals, businesses or other for-profit organizations, universities, non-profit institutions, and Federal and State governments.

Estimated Number of Responses per Award: 1800 responses, broken down as follows: For the President's National Medal of Science, 80; background check form, 15; for the Alan T. Waterman Award, 70; for the Vannevar Bush Award, 20; for the Public Service Award, 30; for the PAESMEM, 200; and 1400 for the PAEMST.

Estimated Total Annual Burden on Respondents: 41,974 hours, broken down by 1,600 hours for the President's National Medal of Science nominations (20 hours per 80 respondents) and three hours for the background check information for approximately 15-20 honorees; 2,000 hours for the Alan T. Waterman Award (20 hours per 100 respondents); 300 hours for the Vannevar Bush Award (15 hours per 20 respondents); 450 hours for the Public Service Award (15 hours per 30 respondents); 4,000 hours for the PAESMEM (20 hours per 200 respondents) and three hours for the background check information for approximately 15 honorees; and 33,600 hours for the PAEMST (24 hours per 1400 respondents) and 18 hours for the background check information for approximately 108 honorees.

Frequency of Responses: Annually.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; (d) ways to minimize the burden of the collection of information on those who are to respond, including through the use of appropriate automated, electronic, mechanical, or other technological collection techniques or other forms of information technology.

Dated: September 25, 2023.
Suzanne H. Plimpton,
Reports Clearance Officer, National Science Foundation.

[FR Doc. 2023-21277 Filed 9-27-23; 8:45 am]

BILLING CODE 7555-01-P